DEPARTMENT OF THE INTERIOR

Office of the Secretary

[DS10100000/133D5670LC/DLCAP0000.000000/DX.10120]

Land Buy-Back Program for Tribal Nations under Cobell Settlement.

AGENCY: Office of the Deputy Secretary, Interior.

ACTION: Notice of tribal listening session; correction.

SUMMARY: The Office of the Secretary previously announced that it will conduct a listening session on the status of implementation of the Land Buy-Back Program for Tribal Nations. The purpose of the session is to meet with Indian tribes to discuss progress to date and receive feedback. Indian landowners may also attend to provide input. This notice corrects the previously published notice to provide RSVP and testimony information and an agenda.

DATES: The listening session will take place on May 29, 2014, from 1 p.m.-4 p.m. Pacific Time. Please RSVP by May 27, 2014.

ADDRESSES: The listening session will take place at the Federal Building, Auditorium, 911 NE 11th Avenue, Portland, OR 97232-4128. Please RSVP via email or telephone to Genevieve Giaccardo, buybackprogram@ios.doi.gov or (202) 208-1541.

FOR FURTHER INFORMATION CONTACT: Genevieve Giaccardo, Senior Advisor on Tribal Relations, (202) 208-1541.

SUPPLEMENTARY INFORMATION:

I. Background

The Cobell Settlement was approved with finality on November 24, 2012, following the exhaustion of appeals through the U.S. Supreme Court. Within a month following final approval, the Department of the Interior (the Department) established the Land Buy-Back Program for Tribal Nations (Buy-Back Program) and published an Initial Implementation Plan. The Department engaged in government-to-government consultation on this plan and released an Updated Implementation Plan in November 2013.

The Department is currently implementing the Buy-Back Program at multiple locations across Indian Country. Since November 24, 2012, the Department has sent offers to over 19,000 landowners. Thus far, Interior has paid nearly $60 million to Indian landowners across the United States for voluntarily restoring the equivalent of more than 170,000 acres of land to tribal governments. Tribal governments are helping plan for and implement the Buy-Back Program at specific locations through cooperative agreements or other arrangements.

The purpose of this session is to gather input from tribes in order for the Department to continue to refine its land consolidation processes. Landowners may also attend the session to provide input.

II. Additional Resources

The Updated Implementation Plan and additional information about the Buy-Back Program is available at: http://www.doi.gov/buybackprogram. In addition, landowners can contact their local Fiduciary Trust Officer or call Interior's Trust Beneficiary Call Center at (888) 678-6836.

III. Listening Session Details

Time and date: May 29, 2014, 1 p.m.-4 p.m. PT.

Place: Federal Building, Auditorium, 911 NE. 11th Avenue, Portland, OR 97232-4128.

Please RSVP by May 27, 2014 to Genevieve Giaccardo.

Written comments will be accepted prior to, during, or directly after the meeting. Due to time constraints during the meeting, written comments cannot be read but will be incorporated into the record.

The agenda for the listening session will be:

1:00 p.m.—Invocation

1:15 p.m.—Introductions

1:30 p.m.—Opening Remarks by Deputy Secretary Michael Connor

1:45 p.m.—Buy-Back Program Status Update

2:00 p.m.—Tribal Leader Oral Comments

3:00 p.m.—Break

3:15 p.m.—Individual Landowner Comments

Dated: May 16, 2014.
Michael Connor,
Deputy Secretary.

[FR Doc. 2014-11981 Filed 5-22-14; 8:45 am]

BILLING CODE 4310-10-P